DEPARTMENT OF TRANSPORTATION

Federal Aviation Administration

14 CFR Part 39

[Docket No. FAA-2005-22919; Directorate Identifier 2005-NM-087-AD]

RIN 2120-AA64

Airworthiness Directives; Airbus Model A319-100, A320-200, A321-100, and A321-200 Series Airplanes

AGENCY: Federal Aviation Administration (FAA), Department of Transportation (DOT).

ACTION: Notice of proposed rulemaking (NPRM).

SUMMARY: The FAA proposes to adopt a new airworthiness directive (AD) for certain Airbus Model A319-100, A320-200, A321-100, and A321-200 series airplanes. This proposed AD would require repetitive inspections for corrosion in the inside and outside lower walls of each type A, D, E, and F lavatory wall that has at least one wall-mounted cabin attendant seat, and related investigative and corrective actions if necessary. The repetitive inspections may be terminated by repairing the wall with composite material, or replacing the entire wall with a new wall made of composite material. This proposed AD results from reports of corrosion in the lower part of the lavatory walls due to water ingress. We are proposing this AD to detect and correct corrosion and damage on the lower part of the lavatory walls, which could compromise the structural integrity of the cabin attendant seat attachments, and cause injury to the cabin attendants during a crash landing.

DATES: We must receive comments on this proposed AD by December 12, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-22919; the directorate identifier for this docket is 2005-NM-087-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed under ADDRESSES. Include “Docket No. FAA-2005-22919; Directorate Identifier 2005-NM-087-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

The Direction Générale de l'Aviation Civile (DGAC), which is the airworthiness authority for France, notified us that an unsafe condition may exist on certain Airbus Model A319-100, A320-200, A321-100, and A321-200 series airplanes. The DGAC advises that an operator reported cracks in the lavatory floor pans of the affected airplanes in its fleet. Further investigation showed that the cracks resulted from corrosion in the lower part of the lavatory wall, possibly caused by liquid that entered during cleaning and operation, and by rain entering through the main entry door. Extensive corrosion of the lower part of the lavatory wall could compromise the structural integrity of the cabin attendant seat (CAS) attachments. This condition, if not corrected, could result in injury to the cabin attendants during a crash landing.

Relevant Service Information

Airbus has issued Service Bulletin A320-25-1365, dated February 18, 2005. The service bulletin describes procedures for doing a repetitive detailed visual inspection for corrosion and damage in the inside and outside lower walls of each type A, D, E, and F lavatory wall that has at least one wall-mounted CAS. The service bulletin also describes procedures for related investigative and corrective actions if necessary, including any supporting non-destructive testing. The related investigative and corrective actions are as follows:

If no corrosion is detected, the service bulletin describes procedures for repeating the inspection. If any corrosion or damage is detected during any inspection that does not exceed the allowable limits specified in the service bulletin, the service bulletin gives procedures for cleaning the area with cleaning agent, protecting against further corrosion, operating the CAS within specified limits, repeating the inspection, and, within a specified amount of time, repairing the corroded wall.

If any corrosion or damage is detected during any inspection that does exceed the allowable limits specified in the service bulletin, the service bulletin gives procedures for repairing the wall within a specified amount of time, and specifies not to use the affected CAS until the wall is repaired.

The repair depends on the extent of damage and includes doing one of the following, as applicable:

• Installing a temporary aluminum repair for the existing aluminum lavatory wall in accordance with procedures in the service bulletin;

• Repairing the lower attachments of the existing aluminum lavatory walls in accordance with the lavatory component maintenance manual (CMM);

• Repairing the existing aluminum lavatory wall with composite material in accordance with the lavatory CMM (the service bulletin specifies that no further action is necessary after this repair); or

• Replacing the existing aluminum lavatory wall with a composite wall in accordance with the lavatory CMM, or in accordance with additional Airbus service bulletins described below, as applicable. (The service bulletin specifies that no further action is necessary after this repair).

Doing the temporary aluminum repair in accordance with the service bulletin ends the repetitive inspections in the service bulletin. However, the service bulletin specifies that operators who do the temporary aluminum repair should, within 18 months, repair the wall with composite material, or permanently replace the aluminum wall with a new wall made of composite material. For lavatories that have the repair to the lower attachments of the aluminum lavatory wall in accordance with the lavatory CMM, the service bulletin specifies that operators repeat the detailed visual inspection until the aluminum wall has the temporary aluminum repair, or until it is repaired with composite material, or until it is permanently replaced with a new wall made of composite material.

The service bulletin notes that the temporary aluminum repair and the repair to the lower attachments of the aluminum lavatory walls can each be done only one time. If any inspection shows corrosion damage after the lower attachments are repaired, the service bulletin states that the wall must have the temporary aluminum repair, or the composite repair, or be replaced with a new wall made of composite material; as applicable to the extent of damage.

Airbus has also issued Service Bulletin A320-25-1289, Revision 01, dated October 29, 2003 (for lavatory A); and Service Bulletin A320-25-1357, dated July 19, 2004 (for lavatory F). These service bulletins describe procedures for replacing the existing aluminum lavatory wall for lavatory types A and F respectively, with a wall made of composite material.

The compliance times for doing the inspections and related investigative and corrective actions described above are summarized in Figure 1 Sheet 1 of Airbus Service Bulletin A320-25-1365, dated February 18, 2005. The intervals for repeating the detailed inspection are from 15 months to 18 months depending on previous repairs. The compliance time specified for doing applicable repairs ranges from 600 flight hours to 18 months, depending on the extent of the damage.

We have determined that accomplishment of the actions specified in the service information will adequately address the unsafe condition. The DGAC mandated the service information and issued French airworthiness directive F-2005-046, dated March 16, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Clarification of Inspection Terminology

In this proposed AD, the “detailed visual inspection” specified in the Airbus service bulletin is referred to as a “detailed inspection.” We have included the definition for a detailed inspection in a note in the proposed AD.

Costs of Compliance

This proposed AD would affect about 393 airplanes of U.S. registry. The proposed inspection would take about 2 work hours per lavatory, at an average labor rate of $65 per work hour. Based on these figures, the estimated cost of the proposed AD for U.S. operators is $51,090, or $130 per lavatory, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22919; Directorate Identifier 2005-NM-087-AD.

Comments Due Date

(a) The Federal Aviation Administration must receive comments on this AD action by December 12, 2005.

Affected ADs

(b) None.

Applicability

(c) This AD applies to Airbus Model A319-111, -112, -113, -114, -115, -131, -132, and -133 airplanes; Model A320-211, -212, -214, -231, -232, and -233 airplanes; Model A321-111, -112, and -131 airplanes; and Model A321-211 and -231 airplanes; certificated in any category; equipped with the lavatories in Table 1 of this AD, onto which at least one cabin attendant seat (CAS) is attached; except those airplanes with lavatory walls that have not been modified since the application of Airbus Modification 31574 in production.

Table 1.—Lavatory Installations Affected by This AD
Lavatory— | Installed by Airbus modification—
Type A DASELL | 23125
Type D DASELL | 22815
Type E DASELL | 22819
Type F DASELL | 23695

Unsafe Condition

(d) This AD results from reports of corrosion in the lower part of the lavatory walls due to water ingress. We are issuing this AD to detect and correct corrosion and damage on the lower part of the lavatory walls, which could compromise the structural integrity of the CAS attachments, and cause injury to the cabin attendants during a crash landing.

Compliance

(e) You are responsible for having the actions required by this AD performed within the compliance times specified, unless the actions have already been done.

Service Bulletin Reference

(f) For the purposes of this AD, unless otherwise specified, the term “service bulletin” means the Accomplishment Instructions of Airbus Service Bulletin A320-25-1365, dated February 18, 2005.

Repetitive Inspections and Corrective Actions

(g) Within 2,400 flight hours or 15 months after the effective date of this AD, whichever occurs earlier: Do a detailed inspection for corrosion and damage in the inside and outside lower walls of each type A, D, E, and F lavatory wall that has at least one wall-mounted CAS, and do all applicable related investigative and corrective actions if necessary, including any supporting non-destructive testing and related investigative actions. Do all actions in accordance with the procedures and time-frames defined in the Accomplishment Instructions of the service bulletin. Repeat the inspection at the applicable time specified in Figure 1 Sheet 1 of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Optional Terminating Action

(h) Doing the permanent repair in paragraph (h)(1) or (h)(2) of this AD terminates the repetitive inspection requirements of this AD.

(1) Repair the aluminum wall with composite material in accordance with the lavatory component maintenance manual (CMM).

(2) Replace the aluminum wall with a new wall made of composite material in accordance with the Accomplishment Instructions of the applicable service bulletin in paragraph (h)(2)(i), (h)(2)(ii), or (h)(2)(iii) of this AD.

(i) For lavatory A: Airbus Service Bulletin A320-25-1289, Revision 01, dated October 29, 2003.

(ii) For lavatories D and E: Airbus Service Bulletin A320-25-1365, dated February 18, 2005, which references the lavatory CMM as an additional source of service information for doing the replacement.

(iii) For lavatory F: Airbus Service Bulletin A320-25-1357, dated July 19, 2004.

Actions Accomplished in Accordance With Previous Issue of a Service Bulletin

(i) Replacement of the lavatory A wall done before the effective date of this AD in accordance with Airbus Service Bulletin A320-25-1289, dated October 11, 2002, is acceptable for compliance with the requirements of paragraph (h)(2)(i) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directive F-2005-046, dated March 16, 2005, also addresses the subject of this AD.

Issued in Renton, Washington, on October 31, 2005.
Ali Bahrami,
Manager, Transport Airplane Directorate, Aircraft Certification Service.

[FR Doc. 05-22443 Filed 11-9-05; 8:45 am]

BILLING CODE 4910-13-P